DEPARTMENT OF TRANSPORTATION

Federal Aviation Administration

RTCA; Future Flight Data Collection Committee

Pursuant to section 10(a)(2) of the Federal Advisory Committee Act (Pub. L. 92-463, 5 U.S.C., Appendix 2), notice is hereby given for the Future Flight Data Collection Committee meeting to be held July 6, 2000, starting at 9:00 a.m. This new activity is to investigate future flight recorder concepts and requirements, thereby facilitating future regulatory requirements, opportunities for voluntary initiatives and the necessary protection of collected data. The meeting will be held at RTCA, 1140 Connecticut Avenue, NW., Suite 1020, Washington, DC, 20036.

The agenda will include: (1) Welcome, Introductory and Administrative Remarks; (2) Review of Meeting Agenda; (3) RTCA Functional Overview; (4) Review of FAA flight Data Recorder Specifications and Regulations; (5) Industry Speakers; (6) Terms of Reference Overview; (7) Identify Goals, Develop Work Program and Examine Milestones; (8) Assign Tasks and Workgroups; (9) Other Business; (10) Establish Agenda for Next Meeting; (11) Date and Location of Next Meeting; (12) Closing.

Attendance is open to the interested public but limited to space availability. With the approval of the chairman, members of the public may present oral statements at the meeting. Persons wishing to present statements, obtain information or pre-register for the committee should contact the RTCA Secretariat, 1140 Connecticut Avenue, NW., Suite 1020, Washington, DC 20036; (202) 833-9339 (phone); (202) 833-9434 (fax). Members of the public may present a written statement to the committee at any time.

Issued in Washington, DC, on June 12, 2000.
Jane P. Caldwell,
Designated Official.

[FR Doc. 00-15281 Filed 6-15-00; 8:45 am]

BILLING CODE 4910-13-M